ENVIRONMENTAL PROTECTION AGENCY

[ER-FRL-6652-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-AFS-K65269-NV Rating EC2, Martin Basin Rangeland Project, Authorize Continued Livestock Grazing in Eight Allotments:

Martin Basin, Indian, West Side Flat Creek, Buffalo, Bradshaw, Buttermilk, Granite Peak and Rebel Creek Cattle and Horse Allotments, Humboldt-Toiyabe National Forest, Santa Rosa Ranger District, Humboldt County, NV.

Summary: EPA expressed concerns with potential adverse impacts to riparian resources. EPA recommended a more aggressive implementation schedule, reduced permitted animal numbers and seasons where ecosystem functions are known to be impaired, and a commitment to tiered environmental documentation for specific Allotment Management Plans.

ERP No. D-COE-K11114-CA Rating EO2, Mare Island Reuse of Dredged Material Disposal Ponds, Issuing Section 404 Permit under the Clean Act and Section 10 Permit Rivers and Harbor Act, San Francisco Bay Area, City of Vallejo, Solando County, CA.

Summary: EPA objects to the project as proposed based on the potential unmitigated loss of aquatic habitat from filling over 250 acres of seasonal wetlands, and the lack of environmental safeguards for key aspects of site operation.

ERP No. D-COE-K36139-CA Rating LO, Hamilton City Flood Damage Reduction and Ecosystem Restoration, Propose to Increase Flood Protection and Restore the Ecosystem, Sacramento River, Glenn County, CA.

Summary: EPA has no objections to the proposed project.

ERP No. DR-AFS-J65303-MT Rating EC2, Bridger Bowel Ski Area, Special Use Permit and Master Development Plan, Improve the Current Recreation Experience, Gallatin National Forest, Bozeman Ranger District, Gallatin County, MT.

Summary: EPA expressed environmental concerns with project impacts to water quality, fisheries, vegetation and wildlife. Additional information should be provided regarding the need for expansion beyond existing permit boundaries. EPA believes Alternative 4 better balances environmental and resource management trade-offs while addressing purpose and need. The FEIS should include an improved analysis and disclosure of the ski area expansion's indirect effects.

ERP No. DS-BLM-K36197-NV Rating EC2, Clark County Regional Flood Control Master Plan, Updated Information to the 1991 FEIS, Facilities Construction and Operation, Right-of-Way Approval and U.S. Army COE Section 404 Permit, Clark County, NV.

Summary: EPA expressed concerns based on the project's potential impacts to air quality, waters of the U.S., shallow groundwater, and biological resources. EPA recommended additional information in the FEIS regarding these resources, other reasonable alternative to meet the project purpose, indirect impacts, and mitigation measures.

ERP No. D1-AFS-J65308-UT Rating EC2, Wasatch Powderbird Guides Permit Renewal, Authorization to Continue Providing Guided Helicopter Skiing Activities on National Forest System (NFS) Land in the Wasatch-Cache and Uinta National Forests, Special-Use Permit (SUP), Provo and Salt Lake City, UT.

Summary: EPA expressed environmental concerns with potential impacts to wilderness, wildlife and recreation from helicopter skiing operations and that a discussion on fuel storage and potential impacts should be included in the Final EIS.

Final EISs

ERP No. F-AFS-L65436-OR Juncrock Timber Sale Project, Treat Forest Vegetation, MT. Hood National Forest, Barlow Ranger District, Wasco County, OR.

Summary: No formal comment letter was sent to the preparing agency.

ERP No. F-AFS-L65442-OR Baked Apple Fire Salvage Project, Salvaging Fire Killed Trees in the Matrix Portion of the 2002 Apple Fire, Umpqua National Forest, Umpqua Ranger District, Douglas County, OR.

Summary: No formal comment letter was sent to the preparing agency.

ERP No. F-BLM-G65084-00 El Camino Real De Tierra Adentro National Historic Trail, Comprehensive Management Plan, Implementation, TX and NM.

Summary: No formal comment letter was sent to the preparing agency.

ERP No. F-FTA-C40150-NY Second Avenue Subway Project, Improve Transit Access to Manhattan's East Side and Reduce Excess Crowds on the Lexington Avenue Subway, Metropolitan Transportation Authority (MTC) New York City Transit (NYCT), New York, NY.

Summary: EPA has no objections to the proposed project. EPA did suggest that the ROD provide commitments to regarding emission control measures should the project sponsors elect to use barges in the last phase of the project.

ERP No. FR-COE-E34030-FL Central and Southern Project, Indian River Lagoon-South Feasibility Study, Final Integrated Project Implementation Report, Comprehensive Everglades Restoration Plan, (CERP), Martin and St. Lucie Counties, FL.

Summary: EPA has no objection to the proposed action.

Dated: June 22, 2004
Ken Mittelholtz,
Environmental Protection Specialist, Office of Federal Activities.

[FR Doc. 04-14467 Filed 6-24-04; 8:45 am]

BILLING CODE 6560-50-P